FEDERAL COMMUNICATIONS COMMISSION

[CC Docket No. 92-105; DA 04-3679]

Parties Asked To Refresh the Record Regarding Reconsideration of the Decision Applying the Numbering Utilization and Forecast Reports Requirements to Carriers Receiving Numbering Resources From the 500 and 900 Number Plan Areas

AGENCY: Federal Communications Commission.

ACTION: Notice; solicitation of comments.

SUMMARY: On July 12, 2001, Competitive Telecommunications Association and Personal Communications Industry Association jointly filed a petition for reconsideration insisting that 500 and 900 numbering plan areas were not included in the Numbering Resource Optimization Report and Order and Further Notice of Proposed Rulemaking. Because the petition for reconsideration was filed some time ago, the passage of time and intervening developments may have rendered the record developed for the petition stale. Moreover, some issues raised in the petition for reconsideration may have become moot or irrelevant in light of intervening events. For these reasons, the Wireline Competition Bureau requests that the petitioners identify issues from the petition that remain unresolved and supplement the petition, in writing, to indicate which findings they still wish to be reconsidered. To the extent that intervening events may have materially altered the circumstances surrounding the filed petition or the relief sought by filing parties, those entities may refresh the record with new information or arguments related to their original petition that they believe to be relevant to the issues. The previously filed petition will be deemed withdrawn and will be dismissed if parties do not indicate in writing an intent to pursue their petition for reconsideration.

DATES: Comments are due on or before December 30, 2004. Reply comments are due on or before January 6, 2005.

ADDRESSES: Parties who choose to file by paper must file an original and four copies of each filing. All filings must be sent to the Commission's Secretary, Marlene H. Dortch, Office of the Secretary, Federal Communications Commission, 445 12th Street, SW., Washington, DC 20554. See Supplementary Information section for where and how to file comments.

FOR FURTHER INFORMATION CONTACT: Karen Franklin, Attorney, Wireline Competition Bureau, Telecommunications Access Policy Division, (202) 418-7400 TTY: (202) 418-0484.

SUPPLEMENTARY INFORMATION: Pursuant to the Commission's rules governing petitions for reconsideration, the Commission invites interested parties to update the record pertaining to the petition for reconsideration filed by the Competitive Telecommunications Association (CompTel) and Personal Communications Industry Association (PCIA). In the Numbering Resource Optimization Report and Order and Further Notice of Proposed Rulemaking (NRO Order), 65 FR 37703, June 16, 2000, the Commission, inter alia, adopted a mandatory utilization data reporting requirement, a uniform set of categories of numbers for which carriers must report their utilization, and a utilization threshold framework to increase carrier accountability and incentives to use numbers efficiently. Subsequent to the NRO Order, the Commission released a Public Notice stating that the reporting requirements established in the NRO Order apply to all carriers that receive numbering resources from the NANPA (i.e., code holders), or that receive numbering resources from a Pooling Administrator in thousands blocks (i.e., block holders), including the 500 and 900 numbering plan areas (NPAs).

On July 12, 2001, CompTel and PCIA jointly filed a petition for reconsideration insisting that 500 and 900 NPAs were not included in the NRO Order. Because the petition for reconsideration was filed some time ago, the passage of time and intervening developments may have rendered the records developed for those petitions stale. Moreover, some issues raised in the petition for reconsideration may have become moot or irrelevant in light of intervening events.

For these reasons, the Wireline Competition Bureau requests the petitioners identify issues from the petition that remain unresolved now and supplement the petition, in writing, to indicate which findings they still wish to be reconsidered. To the extent that intervening events may have materially altered the circumstances surrounding the filed petition or the relief sought by filing parties, those entities may refresh the record with new information or arguments related to their original petition that they believe to be relevant to the issues. The previously filed petition will be deemed withdrawn and will be dismissed if parties do not indicate in writing an intent to pursue their petition for reconsideration.

Petitioners may file supplemental comments updating their previously filed petition for reconsideration on or before December 30, 2004. Reply Comments are due on or before January 6, 2005. All pleadings are to reference CC Docket No. 99-200. Comments may be filed using: (1) the Commission's Electronic Comment Filing System (ECFS), (2) the Federal Government's eRulemaking Portal, or (3) by filing paper copies. See Electronic Filing of Documents in Rulemaking Proceedings, 63 FR 24121 (May 1, 1998).

Comments filed through the ECFS can be sent as an electronic file via the Internet to http://www.fcc.gov/cgb/ecfs/. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number.

One (1) courtesy copy should also be sent to Sheryl Todd, Wireline Competition Bureau, FCC, Room 5-B540, 445 12th Street, SW., Washington, DC 20554. Filings can be sent by hand or messenger delivery, by commercial overnight courier, or by first-class or overnight U.S. Postal Service mail (although we continue to experience delays in receiving U.S. Postal Service mail).

The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

The original petition for reconsideration that CompTel and PCIA jointly filed in 2001 is available for inspection and copying during business hours at the FCC Reference Information Center, Portals II, 445 12th St. SW., Room CY-A257, Washington, DC 20554. The document may also be purchased from Best Copy and Printing, Inc., Portals II, 445 12th Street, SW., Room CY-B402, Washington, DC 20554, telephone 1-800-378-3160, or via e-mail http://www.bcpiweb.com.

This matter shall be treated as a “permit-but-disclose” proceeding in accordance with the Commission's ex parte rules. See 47 CFR 1.1200 and 1.1206. Persons making oral ex parte presentations are reminded that memoranda summarizing the presentations must contain summaries of the substance of the presentations and not merely a listing of the subjects discussed. More than a one-or two-sentence description of the views and arguments presented is generally required. See 47 CFR 1.1206(b). Other rules pertaining to oral and written ex parte presentations in permit-but-disclose proceedings are set forth in § 1.1206(b) of the Commission's rules, 47 CFR 1.1206(b).

Federal Communications Commission.
Dated: December 10, 2004.
Narda M. Jones,
Chief, Telecommunications Access Policy Division.

[FR Doc. 04-27564 Filed 12-15-04; 8:45 am]

BILLING CODE 6712-01-P